DEPARTMENT OF JUSTICE

Notice of Lodging Proposed Partial Consent Decree

In accordance with Departmental Policy, 28 CFR 50.7, notice is hereby given that a proposed Partial Consent Decree in United States v. Paul Bunn and Snyder Logging and Landscaping, LLC, Civil Action No. 20-107-DLC-KLD, was lodged with the United States District Court for the District of Montana, Missoula Division, on September 23, 2020.

This proposed Partial Consent Decree concerns a complaint filed by the United States against Defendants Paul Bunn and Snyder Logging and Landscaping, LLC, pursuant to 33 U.S.C. 1319(b) and (d), to obtain injunctive relief from, and impose civil penalties against, the Defendants for violating the Clean Water Act by discharging pollutants without a permit into waters of the United States. The proposed Partial Consent Decree resolves these allegations against Snyder Logging and Landscaping, LLC (“Snyder Logging”) by requiring Snyder Logging to pay a civil penalty.

The Department of Justice will accept written comments relating to this proposed Partial Consent Decree for thirty (30) days from the date of publication of this Notice. Please address comments to Alan D. Greenberg, United States Department of Justice, Environmental Defense Section, 999 18th Street, Suite 370, Denver, CO 80202 and refer to United States v. Paul Bunn and Snyder Logging and Landscaping, LLC and DJ #90-5-1-1-20880.

The proposed Partial Consent Decree may be examined at the Clerk's Office, United States District Court for the District of Montana, Russell Smith Federal Courthouse, 201 E Broadway Street, Suite 410, Missoula, MT 59802. In addition, the proposed Partial Consent Decree may be examined electronically at http://www.justice.gov/enrd/consent-decrees.

Cherie Rogers,
Assistant Section Chief, Environmental Defense Section, Environment and Natural Resources Division.

[FR Doc. 2020-21895 Filed 10-2-20; 8:45 am]

BILLING CODE 4410-15-P